DEPARTMENT OF TRANSPORTATION

Federal Transit Administration

FTA Fiscal Year 2005 Apportionments, Allocations and Program Information

AGENCY: Federal Transit Administration (FTA), DOT.

ACTION: Notice.

SUMMARY: The “Consolidated Appropriations Act, 2005”, (Public Law 108-447), signed into law by President Bush on December 8, 2004, appropriates funds for all of the surface transportation programs of the Department of Transportation for the fiscal year ending September 30, 2005. This notice provides information on the FY 2005 transit appropriations for the FTA assistance programs, program guidance and requirements, and information on several program issues important in the coming year.

FOR FURTHER INFORMATION CONTACT: For general information about this notice contact Mary Martha Churchman, Director, Office of Resource Management and State Programs, (202) 366-2053. Please contact the appropriate FTA regional office for any specific requests for information or technical assistance. The Appendix at the end of this notice includes contact information for FTA regional offices and key headquarters program staff.

SUPPLEMENTARY INFORMATION:

Table of Contents

I. Overview

II. FY 2005 Funding for FTA Programs

A. Funding Based on FY 2005 Appropriations Act and Extension of Authorization

B. Apportionments and Allocations

C. Program Funds Set-aside for Project Management Oversight

III. Fiscal Year 2005 Key Program Initiatives

A. Improved Customer Service

B. Transportation Coordination—United We Ride

C. Reporting Independent Single Audit Results

IV. FTA Programs

A. Metropolitan Planning Program (49 U.S.C. 5303)

B. Urbanized Area Formula Program (49 U.S.C. 5307)

C. Clean Fuels Formula Program (49 U.S.C. 5308)

D. Capital Investment Program (49 U.S.C. 5309)—Fixed Guideway Modernization

E. Capital Investment Program (49 U.S.C. 5309)—Bus and Bus-Related Facilities

F. Capital Investment Program (49 U.S.C. 5309)—New Starts

G. Elderly and Persons with Disabilities Program (49 U.S.C. 5310)

H. Nonurbanized Area Formula Program (49 U.S.C. 5311)

I. Rural Transit Assistance Program (49 U.S.C. 5311(b)(2))

J. Statewide Planning and Research Program (49 U.S.C. 5313(b))

K. National Planning and Research Program (49 U.S.C. 5314)

L. Job Access and Reverse Commute Program (Public Law 105-85, Section 3037)

M. Over-the-Road Bus Accessibility Program (Public Law 105-85, Section 3038)

V. FTA Program Guidance and Requirements

A. Automatic Pre-Award Authority To Incur Project Costs

B. Letter of No Prejudice (LONP) Policy

C. FTA FY 2005 Annual List of Certifications and Assurances

D. FHWA Funds Used for Transit Purposes

E. Grant Application Procedures

F. Payments

G. Oversight

H. Technical Assistance

VI. Guidance and Information Specific to FTA Planning Programs

A. Census 2000 Planning and Programming Requirements Deadline

B. Local Match Waiver for Specific Planning Activities

C. Planning Emphasis Areas for FY 2005

D. Consolidated Planning Grants

Tables

1. FTA FY 2005 Appropriations, Apportionments, and Available Funding for Grant Programs

2. FTA FY 2005 Metropolitan Planning Program and Statewide Planning and Research Program Apportionments

3. FTA FY 2005 Urbanized Area Formula Apportionments

4. FTA FY 2005 Apportionment Formula for Urbanized Area Formula Program

5. FTA FY 2005 Formula Programs Apportionments Data Unit Values

6. 2000 Census Urbanized Areas With Populations 200,000 or Greater Eligible To Use FY 2005 Section 5307 Funds for Operating Assistance

7. FTA FY 2005 Fixed Guideway Modernization Apportionments

8. FTA FY 2005 Fixed Guideway Modernization Program Apportionment Formula

9. FTA FY 2005 Bus and Bus-Related Allocations

10. FTA Prior Year Unobligated Bus and Bus-Related Allocations

11. FTA FY 2005 New Starts Allocations

12. FTA Prior Year Unobligated New Starts Allocations

13. FTA FY 2005 Elderly and Persons With Disabilities Apportionments

14. FTA FY 2005 Nonurbanized Area Formula Apportionments, and Rural Transit Assistance Program (RTAP) Allocations

15. FTA FY 2005 National Planning and Research Program Allocations

16. FTA FY 2005 Job Access and Reverse Commute (JARC) Allocations

17. FTA Prior Year Unobligated JARC Allocations

Appendix

I. Overview

This document apportions or allocates annual appropriations among potential program recipients. Although the agency has received its annual appropriation, our authorizing legislation is scheduled to expire May 31, 2005. Because of this, we will show two amounts—one reflecting the annual appropriation amount and one showing the amount currently available, as limited by the 8-month authorization. In addition, the document contains important information about FTA programs and areas of emphasis for the fiscal year, including FTA's Strategic Business Plan Initiative. For each FTA program included, we have provided relevant information on its total fiscal year (FY) 2005 apportionments/allocations, requirements, period of availability, and other related information and highlights, as appropriate. A separate section of the document provides information on requirements and guidance that are applicable to all FTA programs. The document also includes a section that delineates various requirements and guidance specific to the FTA planning programs that grantees should be aware of for FY 2005.

II. FY 2005 Funding for FTA Programs

A. Funding Based on FY 2005 Appropriations Act and Extension of Authorization

The Consolidated Appropriations Act, 2005 (Pub. L. 108-447, December 8, 2004; hereafter called the 2005 Appropriations Act) provides a combination of trust and general funds that total $7.708 billion for FTA programs. This amount is reduced to $7.646 billion by a government-wide across-the-board 0.80 percent rescission, as directed by Section 122 of Division J of the 2005 Appropriations Act. Table 1 of this document shows the funding for the FTA programs for the entire fiscal year, as provided for in the 2005 Appropriations Act. However, because our current program authorization, the Surface Transportation Extension Act of 2004, Part V (Pub. L. 108-310, September 30, 2004), only provides contract authority for the trust funds through May 31, 2005, we also show in Table 1 the amount of FY 2005 funds currently available for obligation for each program based on the extension of TEA-21 through May 31, 2005. The amount currently available includes all of the general funds but only a portion of the trust funds included in the total obligation limitation for FTA programs in the 2005 Appropriations Act. The percentage of the annual amount currently available varies slightly from program to program, depending on the mix of general and trust funds appropriated for the program and the reallocation of any prior year funds to the program.

B. Apportionments and Allocations

FTA is publishing tables for each program that contain both the apportionments and allocations based on the full program levels in the 2005 Appropriations Act; and the apportionments and allocations based on FY 2005 funds currently available for the FTA program. The column labeled “Apportionment” or “Allocation” includes both trust funds (contract authority) and general funds, and reflects the total dollar amount of obligation limitation and appropriations in the 2005 Appropriations Act, once a full-year contract authority is made available. This amount is not the amount that is actually available for obligation at this time. The amount shown in the column labeled “Available Apportionment” or “Available Allocation” is available for obligation. All apportionments and allocations reflect the 0.80 percent rescission, which has been proportionately applied to the discretionary budget authority and obligation limitation, and to each program, project and activity.

C. Program Funds Set-aside for Project Management Oversight

FTA draws money from funds appropriated to the Urbanized Area Formula Program, Nonurbanized Area Formula Program, and Capital Investment Program for program oversight activities conducted by FTA. The funds are used to provide necessary oversight activities, including oversight of the construction of any major project under these statutory programs; to conduct safety, civil rights, procurement, management and financial reviews and audits; and to provide technical assistance to correct deficiencies identified in compliance reviews and audits. Project management oversight is authorized by 49 U.S.C. Section 5327. The percent of Urbanized Area Formula and Nonurbanized Area Formula funds made available for oversight is one-half percent. The percentage of Capital Investment Program funding made available for oversight was increased from three-quarters percent to one percent by Section 319 of the FY 2002 DOT Appropriations Act and continues to be drawn at the higher rate.

III. Fiscal Year 2005 Key Program Initiatives

Each year, FTA's apportionment notice draws attention to significant initiatives or focus areas for the year. Under our Strategic Business Plan (SBP), we have several initiatives focused on improved efficiency and enhanced customer service, several of which are discussed in this section.

In addition, efforts to improve the coordination of human service program transportation have been paying handsome dividends, and a 2004 Executive Order on Coordinated Human Service Transportation is expected to further energize and focus government-wide efforts to address the complex impediments to delivering effective transportation options at the local level. We discuss this in detail in this section, as well.

Another key issue discussed in this section is Single Audit Act findings and the closure of findings. Additional information about these focus areas is available from your regional office (see the Appendix at the end of this document.)

A. Improved Customer Service

One of the four “core-accountabilities” under FTA's SBP is to reduce grant processing time. This is the third year FTA will track grant processing time, and, as in last year's SBP, the goal is to achieve an average processing time of 36 days from the date a complete application is submitted in TEAM-Web, our electronic grant-making system. Reduced grant processing time has been adopted as a core accountability for several reasons. First, it requires FTA to continually examine how we review and approve grants, and to find ways to improve our internal processes. More importantly, it reduces the amount of time a grantee must wait from the date of submission of a grant until final approval, responding to the needs of grantees to receive funds on a timely basis in order to maintain their programs.

Because tracking comparable data is key to any performance measurement, FTA uses the date on which a grant number is assigned (the date of submission) to measure how long it takes to process a grant. Inherent in this measure is an assumption that regional offices have received a complete application from the grantee. We know that this has been an area of some disagreement in years past, and that some regions have assigned grant numbers before grant applications were actually complete.

To continue to meet our efficiency goal and to ensure that we minimize the time it takes to process a grant, we provide below some information that will aid in the overall understanding of what constitutes a complete application. Of course, you can receive additional information and technical assistance from your regional office at any time. (Complete contact information is available in the Appendix at the end of this document.)

For the regional office to be able to assign a grant number, enabling submission, the application must meet the following requirements:

1. The project is listed in a currently approved Transportation Improvement Program (TIP); Statewide Transportation Improvement Program (STIP), or Unified Planning Work Program (UPWP).

2. All eligibility issues have been resolved.

3. Required environmental findings have been made.

4. The project budget's Activity Line Items (ALI), scope, and project description meet FTA requirements.

5. Local share funding source(s) have been identified.

6. The grantee's required Civil Rights submissions are current.

7. Certifications and assurances are properly submitted.

8. Funding is available, including any flexible funds included in the budget.

9. For projects involving new construction (using New Starts or formula funds), FTA engineering staff has reviewed the project management plan and given approval.

10. When required for grants related to New Starts projects, preliminary engineering (PE) and/or final design (FD) has been approved.

11. Milestone information is complete, or FTA determines that milestone information can be finalized before the grant is ready for award.

In every appropriations act, several FTA programs include Congressional project designations. Congress earmarked over 500 transit projects for FY 2005. A significant number of project sponsors that have received Congressional designations for FY 2005 Bus and Bus-Related Facilities and JARC projects and activities and unobligated prior year designations will be first-time (new) FTA grantees or sub-recipients. With respect to new grantees, historically, the following issues have presented the most significant hurdles to successful and timely implementation of earmarked projects: (1) Grantee inability to identify eligible project activities within the scope of the earmark; (2) misunderstanding and/or lack of awareness of applicable requirements; and (3) difficulty generating the required local match.

While we provide “pre-award authority” (see section V. A of this document for a complete explanation), we do not recommend that first-time grant recipients utilize the automatic pre-award authority to incur expenses before the grant is actually awarded by FTA. As a new grantee, it is easy to misunderstand pre-award authority conditions and not be aware of all of the applicable FTA requirements that must be met in order to be reimbursed for project expenditures incurred in advance of grant award. FTA programs have specific statutory requirements that are often different from those for other Federal grant programs with which new grantees may be familiar. If funds are expended for an ineligible project or activity, FTA will be unable to reimburse the project sponsor.

We encourage project sponsors of both Bus and JARC earmarked projects who will be first-time FTA grantees to contact their FTA regional office staff to discuss the project and relevant FTA requirements. The regional staff will assist you with identifying requirements and understanding FTA's grant application procedures, and help you develop an approvable application. (See the Appendix to this document for contact information)

B. Transportation Coordination—United We Ride

Transportation is an essential link to employment, health, and educational services. Without adequate transportation services, many older Americans, persons with disabilities, and individuals with low-incomes are often unable to access work, medical services, educational resources or recreation opportunities.

In February 2004, President Bush issued Executive Order (EO) 13330 on Human Service Transportation Coordination to improve transportation for those who are transportation disadvantaged, by improving the coordination of transportation services provided under programs in ten Federal Departments. The goals of the Executive Order are to simplify access to transportation services, reduce duplication and overlap, and improve the effectiveness of the transportation services provided. In response to the EO, the Department of Transportation, with its partners at the Department of Health and Human Services, Labor, Education, and elsewhere, launched the United We Ride (UWR) initiative. To assist States and communities in moving forward, FTA and our Federal partners introduced an initiative that includes a Framework for Action, a self-assessment tool for States and communities; the National Leadership Forum on Human Service Transportation Coordination; State Coordination Grants; and Technical Assistance.

Forty-five States have been selected to receive grants for human service transportation coordination efforts in FY 2005. The State Coordination Grants may be used to: (1) Conduct a comprehensive State assessment using the UWR Framework for Action, (2) develop a comprehensive State action plan for Coordinating Human Service Transportation, and/or (3) implement one or more of the elements identified within the Framework for Action (for those States that have not established a comprehensive State action plan). Planning teams involving regional leadership from the Federal agencies named in the EO are bringing together State teams for workshops in six of the ten U.S. Department of Transportation (U.S. DOT) regional offices this year.

C. Reporting Independent Single Audit Results

A recent audit of the FY 2004 Highway Trust Fund financial statements found that provisions of the Single Audit Act (SAA), and the related Office of Management and Budget (OMB) Circular No. A-133 had not been effectively implemented. In order to correct this weakness, FTA has determined that it is critical that key information from the grantee's audit report be reviewed on an annual basis. Therefore, we are implementing the new reporting requirements described in the June 17, 2004, Dear Colleague letter from Administrator Dorn, which is posted on the FTA Web site at: http://www.fta.dot.gov/legal/guidance/dear_colleague/2004/12128_15811_ENG_HTML.htm.

Grantees should continue to work with FTA regional offices to resolve any FTA-related findings in these independent annual audits. FTA regional offices will be tracking progress in the resolution of these findings, and will contact grantees that have not complied with the requirements in a timely manner. Copies of responses to audit findings that relate to a resolution of the findings should be sent to the appropriate regional office.

Consistent with the requirements of OMB Circular No. A-133, FTA requires a grant recipient expending $500,000 or more (previously $300,000 or more) in Federal financial assistance to secure an independent annual audit of its financial activities. The audit report must be submitted to the Federal Clearinghouse within the earlier of 30 days after the audit report is issued, or nine months after the end of the audit period.

At the same time, grant recipients should send a copy of the Federal Clearinghouse transmittal sheet to the appropriate FTA regional office, and if there are FTA program findings or if FTA is your point-of-contact for all DBE program issues, send FTA a copy of the entire audit report.

IV. FTA Programs

This section of the notice provides FY 2005 funding and other important program-related information for the four major FTA program areas included in the notice (transit planning and research; formula grants; capital investments; and Job Access and Reverse Commute). Of the 14 separate FTA programs contained in this notice that fall under the major program area headings, the funding for seven is apportioned by statutory formula. Funding for the other seven is allocated on a discretionary or competitive basis.

Funding and other important information for each of the 14 programs is presented immediately below. This includes program apportionments or allocations, certain program requirements, length of time FY 2005 funding is available to be committed, and other significant program information pertaining to FY 2005.

A. Metropolitan Planning Program (49 U.S.C. 5303)

Section 5303 authorizes a cooperative, continuous, and comprehensive planning program for transportation investment decision-making at the metropolitan area level. State Departments of Transportation (DOTs) and Metropolitan Planning Organizations (MPOs) may receive funds for planning projects that support the economic vitality of the metropolitan area, especially by enabling global competitiveness, productivity, and efficiency; increasing the safety and security of the transportation system for motorized and non-motorized users; increasing the accessibility and mobility options available to people and for freight; protecting and enhancing the environment, promoting energy conservation, and improving quality of life; enhancing the integration and connectivity of the transportation system, across and between modes, for people and freight; promoting efficient system management and operation; and emphasizing the preservation of the existing transportation system. For more about the Metropolitan Planning Program contact Candace Noonan, Program Manager, at (202) 366-1648.

1. Total Apportionments

The 2005 Appropriations Act provides $59,902,515 to the Metropolitan Planning Program (49 U.S.C. 5303) after the across-the-board 0.80 percent rescission. The total amount apportioned for the Metropolitan Planning Program (to States for MPOs' use in urbanized areas (UZAs)) is $60,628,846, as shown in the table below.

Metropolitan Planning Program
Appropriation | $60,385,600
Rescission | (483,085)
Prior Year Funds Added | 726,331
Total Apportioned | 60,628,846

States' apportionments for this program are displayed in Table 2. Also displayed in Table 2 is the amount of each State's apportionments that is currently available for obligation, in accordance with the Surface Transportation Extension Act of 2004, Part V.

FTA allocates Metropolitan Planning funds to the States according to a statutory formula. Eighty percent of the funds are distributed to the States as a basic allocation based on each State's population in the UZA, as designated by the Census Bureau. The remaining 20 percent is provided to the States as a supplemental allocation based on an FTA administrative formula to address planning needs in the larger, more complex UZAs. The amount published for each State is a combined total of both the basic and supplemental allocation.

2. Program Requirements

The State allocates Metropolitan Planning funds to MPOs in UZAs or portions thereof to provide funds for projects included in an annual work program (the Unified Planning Work Program, or UPWP) that includes both highway and transit planning projects. All States have either reaffirmed or developed, in consultation with their MPOs, new allocation formulas as a result of the 2000 Census. These formulas may be changed annually, but any changes require approval by the FTA regional office before grant approval. Program guidance for the Metropolitan Planning Program is found in FTA Circular C8100.1B, Program Guidance and Application Instructions for Metropolitan Planning Program Grants, dated October 25, 1996.

3. Period of Availability

The funds apportioned in this notice under the Metropolitan Planning Program will remain available to be obligated by FTA to recipients for three fiscal years following FY 2005. Any of these apportioned funds that remain unobligated at the close of business on September 30, 2008, will revert to FTA for reapportionment under the Metropolitan Planning Program.

4. Other Program or Apportionment Related Information and Highlights

Section VI of this document provides guidance and information specific to FTA planning programs, including the Metropolitan Planning Program. Please refer to that section for additional information relevant to this program.

B. Urbanized Area Formula Program (49 U.S.C. 5307)

Section 5307 authorizes Federal capital and operating assistance for transit in urbanized areas (UZAs). An UZA is an incorporated area with a population of 50,000 or more that has been designated as such by the U.S. Census Bureau. The Urbanized Area Formula Program also supports planning, in addition to that funded under the Metropolitan Planning Program described above. Funding is apportioned directly to each UZA with a population of 200,000 or more, and to the State Governors for UZAs with populations between 50,000 and 200,000. With a few exceptions, operating assistance is not an eligible expense for UZAs with populations 200,000 or more. For more information about the Urbanized Area Formula Program contact Ken Johnson, Office of Resource Management and State Programs, at (202) 366-2053.

1. Total Apportionments

The 2005 Appropriations Act provides $3,593,195,773 to the Urbanized Area Formula Program (49 U.S.C. 5307) after the across-the-board 0.80 percent rescission. The total amount apportioned for the Urbanized Area Formula Program is $3,575,229,794, as shown in the table below, after the deduction for oversight (authorized by 49 U.S.C. 5327).

Urbanized Area Formula Program
Appropriation | $3,622,173,158
Rescission | (28,977,385)
Oversight Deduction | (17,965,979)
Total Apportioned | 3,575,229,794

Table 3 displays the amounts apportioned under the Urbanized Area Formula Program.¹ Also displayed in Table 3 is the amount currently available for obligation, in accordance with the Surface Transportation Extension Act of 2004, Part V. Table 4 contains the apportionment formula for the Urbanized Area Formula Program.

¹ Sec. 198 of the 2005 Appropriations Act states that Norman, OK, is to be considered part of the Oklahoma City, OK, UZA for FY 2004 and 2005. This provision has an unintended impact on the apportionments for these UZAs, and also affects the apportionment of all UZAs with populations less than 1 million. FTA anticipates a correction and has not applied this provision. If the correction is not made, we will adjust the FY 2006 apportionments to the Norman and Oklahoma City UZAs to compensate.

Additional funds are appropriated for the Alaska Railroad for improvements to its passenger operations. The total amount allocated to the Alaska Railroad is $4,787,094 after deduction for the 0.80 percent rescission and oversight, as shown in the table below.

Alaska Railroad Set-Aside
Appropriation | $4,849,950
Rescission | (38,800)
Oversight Deduction | (24,056)
Total Allocated | 4,787,094

Of this amount $3,233,450 is currently available for obligation, in accordance with the Surface Transportation Extension Act of 2004, Part V. Funding for the Alaska Railroad is based on the set-aside amount specified in the 2005 Appropriations Act. This is in lieu of apportioning funds for the Anchorage, AK UZA, under the fixed guideway tier of the section 5307 formula using data attributable to the Alaska Railroad Corporation.

2. Program Requirements

Urbanized Area Formula Program funds are apportioned based on legislative formulas. Different formulas are used for UZAs with populations of 200,000 or more and UZAs with populations less than 200,000. For UZAs 50,000 to 199,999 in population, the formula is based simply on population and population density. For UZAs with populations of 200,000 and more, the formula is based on a combination of bus revenue vehicle miles, bus passenger miles, fixed guideway revenue vehicle miles, and fixed guideway route miles, as well as population and population density. See Table 4 for more detailed information about the formulas. Program guidance for the Urbanized Area Formula Program is found in FTA Circular C9030.1C, Urbanized Area Formula Program: Grant Application Instructions, dated October 1, 1998. There are several important program requirements we highlight below.

a. Urbanized Area Formula Apportionments to Governors

For UZAs with populations less than 200,000 (small UZAs), the funds are apportioned to the Governor of each State for distribution. The total Urbanized Area Formula apportionment for the Governor and the amount currently available for obligation, in accordance with the Surface Transportation Extension Act of 2004, Part V, is shown in Table 3. This table also shows the apportionment amount attributable to each small UZA within the State. The Governor may determine the allocation of funds among the small UZAs with the following exception (as further discussed in item e below): funds attributed to a small UZA that is located within the planning boundaries of a Transportation Management Area (TMA) must be obligated to that small UZA.

b. Transit Enhancements

For UZAs with populations 200,000 or more, TEA-21 establishes that a minimum of one-percent of a UZA's Urbanized Area Formula apportionment be spent for transit projects and project elements that qualify as transit enhancements. One percent of the Urbanized Area Formula Program apportionment in each UZA with a population of 200,000 or more has been set aside specifically for transit enhancement expenditures. Table 3 shows the amount set aside for enhancements in these areas.

The term “transit enhancement” includes projects or project elements that are designed to enhance mass transportation service or use and are physically or functionally related to transit facilities. Eligible enhancements include the following: (1) Historic preservation, rehabilitation, and operation of historic mass transportation buildings, structures, and facilities (including historic bus and railroad facilities); (2) bus shelters; (3) landscaping and other scenic beautification, including tables, benches, trash receptacles, and street lights; (4) public art; (5) pedestrian access and walkways; (6) bicycle access, including bicycle storage facilities and installing equipment for transporting bicycles on mass transportation vehicles; (7) transit connections to parks within the recipient's transit service area; (8) signage; and (9) enhanced access for persons with disabilities to mass transportation.

It is the responsibility of the MPO to determine how the one-percent for transit enhancements will be allotted to transit projects. The one percent minimum requirement does not preclude more than one percent being expended in a UZA for transit enhancements. However, items that are only eligible as enhancements—in particular, operating costs for historic facilities—may be assisted only within the one-percent funding level.

The recipient must submit a report to the appropriate FTA regional office listing the projects or elements of projects carried out with those funds during the previous fiscal year and the amount awarded. The report must be submitted with the Federal fiscal year's final quarterly progress report in TEAM-Web. The report should include the following elements: (a) Grantee name, (b) UZA name and number, (c) FTA project number, (d) transit enhancement category, (e) brief description of enhancement and progress towards project implementation, (f) activity line item code from the approved budget, and (g) amount awarded by FTA for the enhancement. The list of transit enhancement categories and activity line item codes may be found in FTA Circular 9030.1C, Urbanized Area Formula Program: Grant Application Instructions, dated October 1, 1998, and on TEAM-Web, which can be accessed at http://FTATEAMWeb.fta.dot.gov.

c. Transit Security Projects

All recipients of Urbanized Area Formula funds are required to expend at least one percent of the amount the grantee receives each fiscal year on “mass transit security projects.” For applicants serving a UZA with a population of 200,000 or more, only capital security projects may be funded with the one percent.

d. FY 2005 Operating Assistance

There are three transit provisions that allow FY 2005 Urbanized Area Formula funds to be used for operating assistance in a UZA with a population of 200,000 or more: (1) Language in Section 3027(c) of TEA-21, as amended, which allows the use of funds for operating assistance to certain recipients of section 5307 funds that provide service exclusively for elderly persons and persons with disabilities and operate 20 or fewer vehicles; (2) the provision of 5307(b), as amended, and extended by Section 8(n) of the Surface Transportation Extension Act of 2004, Part V, which allows transit systems in UZAs that crossed the 200,000 population threshold for the first time as a result of the 2000 Census, the flexibility to use section 5307 funds for operating assistance; and (3) the provision of 5307(b), as amended, and extended by Section 8(n) of the Surface Transportation Extension Act of 2004, Part V, which allows funds apportioned to a 2000 Census UZA with a population of 200,000 or more to be used for operating assistance in that portion of the UZA that was nonurbanized under the 1990 Census. Each provision has its own requirements, which are described separately below.

(1) Section 3027(c)(3) of TEA-21, as previously amended, provides an exception to the restriction on the use of operating assistance in a UZA with a population of 200,000 or more, by allowing transit providers/grantees that provide service exclusively to elderly persons and persons with disabilities and that operate 20 or fewer vehicles to use section 5307 funds apportioned to the UZA for operating assistance. The total amount of funding made available for this purpose under Section 3027(c)(3) of TEA-21, as amended, is $1.4 million. Transit providers/grantees eligible under this provision have already been identified and notified.

(2) The Surface Transportation Extension Act of 2004, Part V, continues the provisions of Public Law 107-232, which allow transit systems in UZAs that, for the first time, exceeded 200,000 population according to the 2000 Census to use section 5307 funds for operating assistance. A list of the eligible 2000 Census UZAs (with populations 200,000 or more ) that may use FY 2005 funds for operating assistance is provided in Table 6. The table also shows the maximum amount of the area's FY 2005 apportionment that may be used for operating assistance, and the amount of an area's apportionment currently available for obligation as operating assistance. The use of the UZA funds for operating assistance by these areas is restricted to projects carried out within the geographical or service area boundary of the affected 1990 Census small UZA.

(3) In addition, the Surface Transportation Extension Act of 2004, Part V, permits the continued use of Urbanized Area Formula Program (section 5307) funds for operating assistance in certain UZAs with a population of at least 200,000 when the qualifying UZA includes a portion that was not designated as a UZA under the 1990 Census and received assistance under section 5311 in FY 2002. The provision further stipulates that the portion not designated a UZA under the 1990 Census shall receive an amount of funds under section 5307 that is not less than the amount the portion received under section 5311 in FY 2002. Affected areas are not identified in Table 6. A grant applicant for an area eligible to receive operating assistance under this provision that wants to make use of this provision must so indicate in the grant application. The application must identify the previously nonurbanized portion of the UZA that qualifies (i.e., that portion of the area that was not designated as urbanized under the 1990 Census and received assistance under section 5311). Contact the appropriate FTA regional office for additional information and guidance if you intend to make use of this provision.

Unless one of the exceptions noted above applies, the use of FY 2005 Urbanized Area Formula Program funds for operating assistance is available only to small UZAs (those with populations less than 200,000). For these areas, there is no limitation on the amount of the State apportionment that may be used for operating assistance, and the Federal/local share ratio is 50/50.

e. Designated Transportation Management Areas (TMA)

Guidance for setting the boundaries of TMAs is contained in the joint transportation planning regulations codified at 23 CFR part 450 and 49 CFR part 613. In some cases, the TMA planning boundaries established by the MPO for the designated TMA includes one or more small UZAs. In addition, one small UZA (Santa Barbara, CA) has been designated as a TMA. In either of these situations, the Governor cannot allocate “Governor's Apportionment” funds attributed to the small UZAs to other areas; that is the Governor only has discretion to allocate Governor's Apportionment funds attributable to areas that are outside of designated TMA planning boundaries.

The list of small UZAs included within the planning boundaries of designated TMAs is provided in the table below.

Designated TMA | Small urbanized area included in TMA planning boundary
Albany, NY | Saratoga Springs, NY.
Houston, TX | Galveston, TX; Lake Jackson-Angleton, TX; Texas City, TX; The Woodlands, TX.
Jacksonville, FL | St. Augustine, FL.
Orlando, FL | Kissimmee, FL.
Palm Bay-Melbourne, FL | Titusville, FL.
Philadelphia, PA-NJ-DE-MD | Pottstown, PA.
Pittsburgh, PA | Monessen, PA; Weirton, WV-Steubenville, OH-PA (PA portion); Uniontown-Connellsville, PA.
Seattle, WA | Bremerton, WA.
Washington, DC-VA-MD | Frederick, MD.

The MPO must notify the Associate Administrator for Program Management, Federal Transit Administration, 400 Seventh Street, SW., Washington, DC 20590, in writing, no later than July 1 of each year, to identify any small UZA within the planning boundaries of a TMA.

f. Urbanized Area Formula Funds Used for Highway Purposes

Funds apportioned to a TMA are eligible for transfer to FHWA for highway projects. However, before funds can be transferred, the following conditions must be met: (1) Such use must be approved by the MPO in writing, after appropriate notice and opportunity for comment and appeal are provided to affected transit providers; (2) in the determination of the Secretary, such funds are not needed for investments required by the Americans with Disabilities Act of 1990 (ADA); and (3) the MPO determines that local transit needs are being addressed.

The MPO should notify FTA of its intent to use FTA funds for highway purposes, as prescribed in section V.D, below. Urbanized Area Formula funds that are designated by the MPO for highway projects will be transferred to and administered by FHWA.

3. Period of Availability

The Urbanized Area Formula Program funds apportioned in this notice, as well as the set-aside for the Alaska Railroad, will remain available to be obligated by FTA to recipients until September 30, 2008. Any of these apportioned funds that remain unobligated at the close of business on September 30, 2008, will revert to FTA for reapportionment under the Urbanized Area Formula Program.

4. Data Used to Generate Apportionments and Dollar Unit Values

Population and population density statistics from the 2000 Census and (when applicable) validated mileage and transit service data from transit providers' 2003 National Transit Database (NTD) Report Year were used to calculate a UZA's FY 2005 Urbanized Area Formula apportionment.

We have calculated dollar unit values for the formula factors used in the Urbanized Area Formula Program apportionment calculations. These values represent the amount of money each unit of a factor is worth in this year's apportionment. The unit values change each year, based on all of the data used to calculate the apportionments. The dollar unit values for FY 2005 are displayed in Table 5. To replicate a UZA's apportionment, multiply the dollar unit value by the appropriate formula factor, i.e., the population, population × (times) population density, and (when applicable) data from the NTD (i.e., route miles, vehicle revenue miles, passenger miles, and operating cost.)

C. Clean Fuels Formula Program (49.U.S.C. 5308)

FTA's authorizing legislation, TEA-21, established the Clean Fuels Formula Grant Program to support the goals of the Clean Air Act. This program has a two-fold purpose. First, the program is intended to assist non-attainment and maintenance areas in achieving or maintaining air quality attainment status. Second, the program seeks to support emerging clean fuel and advanced propulsion technologies for transit buses, and to create markets for these technologies. No funds were provided for this program in the 2005 Appropriations Act. For more information about this program contact Nancy Grubb, Office of Resource Management and State Programs, at (202) 366-2053.

D. Capital Investment Program (49 U.S.C. 5309)—Fixed Guideway Modernization

This program provides capital assistance for the modernization of existing fixed guideway systems. Funds are allocated by a statutory formula to UZAs with fixed guideway systems that have been in operation for at least seven years. A “fixed guideway” refers to any transit service that uses exclusive or controlled rights-of-way or rails, entirely or in part. The term includes heavy rail, commuter rail, light rail, monorail, trolleybus, aerial tramway, inclined plane, cable car, automated guideway transit, ferryboats, that portion of motor bus service operated on exclusive or controlled rights-of-way, and high-occupancy-vehicle (HOV) lanes. For more information about Fixed Guideway Modernization contact Ken Johnson, Office of Resource Management and State Programs, at (202) 366-2053.

1. Total Apportionments

The 2005 Appropriations Act provides $1,204,684,800 to the Fixed Guideway Modernization Program after the across-the-board 0.80 percent rescission. The total amount apportioned for the Fixed Guideway Modernization Program is $1,192,637,952, after the deduction for oversight, as shown in the table below.

Fixed Guideway Modernization Program
Appropriation | $1,214,400,000
Rescission | (9,715,200)
Oversight Deduction | (12,046,848)
Total Apportioned | 1,192,637,952

The FY 2005 Fixed Guideway Modernization Program apportionments to eligible areas are displayed in Table 7. Also Displayed in Table 7 is the amount of each area's apportionment that is currently available for obligation, in accordance with the Surface Transportation Extension Act of 2004, Part V.

2. Program Requirements

Fixed Guideway Modernization funds must be used for capital projects to maintain, modernize, or improve fixed guideway systems. Eligible UZAs (those with a population of at least 200,000) with fixed guideway systems that are at least seven years old are entitled to receive Fixed Guideway Modernization funds. A threshold level of more than one mile of fixed guideway is required in order to receive Fixed Guideway Modernization funds. Therefore, UZAs reporting one mile or less of fixed guideway mileage under the NTD are not included. Program guidance for Fixed Guideway Modernization is found in FTA Circular C9300.1A, Capital Program: Grant Application Instructions, dated October 1, 1998.

3. Period of Availability

The funds apportioned in this notice under the Fixed Guideway Modernization Program will remain available to be obligated by FTA to recipients for three fiscal years following FY 2005. Any of these apportioned funds that remain unobligated at the close of business on September 30, 2008, will revert to FTA for reapportionment under the Fixed Guideway Modernization Program.

4. Other Program or Apportionment Related Information and Highlights

The formula for allocating the Fixed Guideway Modernization funds contains seven tiers. The apportionment of funding under the first four tiers is based on amounts specified in law and/or NTD data used to apportion funds in FY 1997. Funding under the last three tiers is apportioned based on the latest available data on route miles and revenue vehicle miles on segments at least seven years old, as reported to the NTD. Table 8 contains information regarding the Fixed Guideway Modernization apportionment formula.

Dollar unit values for the formula factors used in the Fixed Guideway Modernization Program are displayed in Table 5. To replicate an area's apportionment, multiply the dollar unit value by the appropriate formula factor, i.e., route miles and revenue vehicle miles.

E. Capital Investment Program (49 U.S.C. 5309)—Bus and Bus-Related Facilities

This program provides capital assistance for new and replacement buses and related facilities. Funds are allocated on a discretionary basis. Eligible purposes are acquisition of buses for fleet and service expansion, bus maintenance and administrative facilities, transfer facilities, bus malls, transportation centers, intermodal terminals, park-and-ride stations, acquisition of replacement vehicles, bus rebuilds, bus preventive maintenance, passenger amenities such as passenger shelters and bus stop signs, accessory and miscellaneous equipment such as mobile radio units, supervisory vehicles, fare boxes, computers, and shop and garage equipment. For more information about Bus and Bus-Related Facilities contact Ryan Hammon, Office of Resource Management and State Programs, at (202) 366-2053.

1. Total Allocations

The 2005 Appropriations Act provides $719,200,000 for the purchase of buses, bus-related equipment and paratransit vehicles, and for the construction of bus-related facilities, after the across-the-board 0.80 percent rescission. This amount includes funds transferred from the Clean Fuels Program as described below. The total amount allocated for Bus and Bus-Related Facilities is $712,008,000, as shown in the following table.

Bus and Bus-Related
Appropriation | $725,000,000
Rescission | (5,800,000)
Oversight Deduction | (7,192,000)
Total Allocation | 712,008,000
* Includes $50 million transferred from Clean Fuels.

TEA-21 authorized a $100 million Clean Fuels Formula Program under 49 U.S.C. 5308 (described in section IV.C above). The program is authorized to be funded with $50 million from the Bus and Bus-Related Facilities category of the Capital Investment Program and $50 million from the Formula Grants Programs. However, the 2005 Appropriations Act directs FTA to transfer the Clean Fuels formula portion to, and merge it with, funding provided for the Bus and Bus-Related category of the Capital Investment Program. The $100 million from the Clean Fuels program, both capital and formula portion, is included in the total appropriations amount in the Bus and Bus-Related Facilities table above and the 0.80 percent across-the-board rescission has been applied to the entire amount. In FY 2005, Congress did not make available for bus and bus-related facilities any funds reallocated from projects in previous appropriations acts. Instead, prior year reallocated bus and bus facilities funds were made available to the New Starts program.

Table 9 displays the allocation of the FY 2005 Bus and Bus-Related Facilities funds by State and project. Each project allocation has been adjusted proportionally from the amount designated in the conference report accompanying the 2005 Appropriations Act to account for the across the board rescission, the amount deducted for oversight, and the shortfall between the amount designated for projects and the amount made available to the program. Also displayed in Table 9 is the amount of each Bus and Bus-Related Facilities project allocation that is currently available for obligation, in accordance with the Surface Transportation Extension Act of 2004, Part V.

2. Program Requirements

The Conference Report to FTA's 2005 Appropriation Act lists 440 discrete projects for funding under Bus and Bus-Related Facilities. The 2005 Appropriations Act includes Section 125 that contains language making these designated projects eligible under the program “notwithstanding any other provision of law.” The Consolidated Appropriations Act 2004, included a similar provision in Section 547. This language makes the bus projects designated in FYs 2005 and 2004 eligible for the designated purpose. However, if you want to apply to use funds designated under the bus program in any year for project activities outside the scope of the project designation included in report language, you must submit your request for reprogramming to the House and Senate Committees on Appropriations for resolution. FTA will not reprogram Congressionally-designated projects without direction from the Appropriations Committees.

Unless the law provides otherwise, projects designated prior to FY 2004 must conform to the eligibility requirements of the Bus and Bus-Related Facilities program. Requests for reprogramming of funding for projects designated prior to FY 2004 that are found not to be consistent with the statutory intent of the program should also be directed to the House and Senate Committees on Appropriations. Program guidance for Bus and Bus-Related Facilities is found in FTA Circular C9300.1A, Capital Program: Grant Application Instructions, dated October 1, 1998.

3. Period of Availability

The 2005 Appropriations Act includes a provision requiring that FY 2005 Bus and Bus-Related Facilities funds not obligated for their original purpose as of September 30, 2007, be made available for other projects under 49 U.S.C. 5309. Certain Bus and Bus-Related Facilities projects identified in previous years but not obligated were extended for one year in the reports accompanying the 2005 Appropriations Act. These project funds will lapse September 30, 2005, if they are not obligated in a grant before then. A list of these extended projects included in the Conference report and the amounts that remain unobligated as of September 30, 2004, can be found in Table 10. However, two projects in the Conference report are not included, pending clarification of Congressional intent to reallocate the balance to the New Starts program. FTA is seeking clarification from Congress regarding Congressional intent to extend other projects that are listed in the House or Senate report but not listed in the Conference Report.

4. Other Program or Allocation Related Information and Highlights

Prior year unobligated balances for Bus and Bus-Related allocations in the amount of $791,171,631 remain available for obligation in FY 2005. This includes $758,522,868 in fiscal years 2003 and 2004 unobligated allocations, and $32,648,763 for fiscal years 1998-2002 unobligated allocations that were extended in the FY 2005 Conference Report. These unobligated amounts are displayed in Table 10. Included with the FY 2004 carryover projects in Table 10 is one project that was transferred from the Job Access and Reverse Commute (JARC) program to the Bus program by Section 531 of the 2005 Appropriations Act.

F. Capital Investment Program (49 U.S.C. 5309)—New Starts

The New Starts program provides funds for construction of new fixed guideway systems or extensions to existing fixed guideway systems. Eligible purposes are light rail, rapid rail (heavy rail), commuter rail, monorail, automated fixed guideway system (such as a “people mover”), or a busway/high occupancy vehicle (HOV) facility, Bus Rapid Transit that is fixed guideway, or an extension of any of these. Projects become candidates for funding under this program by successfully completing the appropriate steps in the major capital investment planning and project development process. Major new fixed guideway projects, or extensions to existing systems, financed with New Starts funds typically receive these funds through a full funding grant agreement (FFGA) that defines the scope of the project and specifies the total multi-year Federal commitment to the project. For more information about New Starts contact Sean Libberton, Office of Planning and Environment, at (202) 366-4033.

1. Total Allocations

The 2005 Appropriations Act provides $1,437,829,600 to New Starts after the across-the-board 0.80 percent rescission. The total amount allocated for New Starts is $1,449,596,996, as shown in the table below.

New Starts
Appropriation | $1,449,425,000
Rescission | (11,595,400)
Oversight Deduction | (14,378,296)
Reallocated Prior Year Funds | a/26,145,692
Total Allocation | 1,449,596,996
a/ Includes reallocated prior year New Starts and Bus funds.

The amount reallocated to New Starts includes $3,591,548 in FY 2001 funds and $22,554,144 in FY 2002 funds under the Capital Investment Grants account, in accordance with language in the 2005 Appropriations Act. FTA is in the process of clarifying with Congress the projects from which these funds are to be derived and we will publish the complete list as soon as possible.

The final allocation for each New Starts project is listed in Table 11. Each project allocation has been adjusted proportionally from the amount designated in the 2005 Appropriations Act to account for the across-the-board rescission and the amount deducted for oversight. Table 11 also shows $11,016,268 as unallocated. Following notification to Congress, FTA will reallocate these funds among certain projects on the list. Also displayed in Table 11 is the amount of each New Starts project allocation that is currently available for obligation, in accordance with the Surface Transportation Extension Act of 2004, Part V.

2. Program Requirements

Because New Starts projects are earmarked in law rather than report language, reprogramming for a purpose other than that specified must also occur in law. New Starts projects are subject to a complex set of approvals related to planning and project development set forth in 49 CFR Part 611. Program guidance for New Starts is found in FTA Circular C9300.1A, Capital Program: Grant Application Instructions, dated October 1, 1998; and C5200.1A, Full Funding Grant Agreement Guidance, dated December 5, 2002.

3. Period of Availability

The 2005 Appropriations Act includes a provision requiring that FY 2005 New Starts and Bus and Bus-Related funds not obligated for their original purpose as of September 30, 2007, shall be made available for other projects under 49 U.S.C. 5309.

Capital Investment Program funds for New Starts projects identified as having been extended for one year in the FY 2005 Conference Report accompanying the 2005 Appropriations Act will lapse September 30, 2005. A list of these extended projects and the amounts that remained unobligated as of September 30, 2004, appears in Table 12.

4. Other Program or Apportionment Related Information and Highlights

Prior year unobligated allocations for New Starts in the amount of $479,244,898 remain available for obligation in FY 2005. This amount includes $408,126,399 in fiscal years 2003 and 2004 unobligated allocations, and $71,118,499 for fiscal years 2000, 2001 and 2002 unobligated allocations that are extended in the FY 2005 Conference Report. These unobligated amounts are displayed in Table 12. Information on pre-award authority for New Starts projects is detailed in section V below.

G. Elderly and Persons With Disabilities Program (49 U.S.C. 5310)

This program (49 U.S.C. 5310) provides formula funding to States for capital projects to assist private nonprofit groups in meeting the transportation needs of the elderly and persons with disabilities when the public transportation service provided is unavailable, insufficient, or inappropriate to meet these needs. The State (or State-designated agency) administers the Section 5310 program. The State's responsibilities include: Notifying eligible local entities of funding availability; developing project selection criteria; determining applicant eligibility; selecting projects for funding; and ensuring that all subrecipients comply with Federal requirements. Eligible nonprofit organizations or public bodies must apply directly to the designated State agency for assistance under this program. For more information about the Elderly and Persons with Disabilities Program contact Sue Masselink, Office of Resource Management and State Programs, at (202) 366-2053.

1. Total Apportionments

The 2005 Appropriations Act provides $94,526,689 to the Elderly and Persons with Disabilities Program (49 U.S.C. 5310) after the across-the-board 0.80 percent rescission, which is the total amount apportioned for the program, as shown in the table below.

Elderly and Persons With Disabilities Program
Appropriation | 95,289,001
Rescission | (762,312)
Total Apportioned | 94,526,689

The FY 2005 Elderly and Persons with Disabilities Program apportionments to the States are displayed in Table 13. Also displayed in Table 13 is the amount of a State's apportionment currently available for obligation, in accordance with the Surface Transportation Extension Act of 2004, Part V.

FTA allocates funds to the States by an administrative formula consisting of a $125,000 floor for each State ($50,000 for smaller territories) with the balance allocated based on 2000 Census population data for persons aged 65 and over and for persons with disabilities.

2. Program Requirements

The funds provide capital assistance for transportation for elderly persons and persons with disabilities. Eligible capital expenses may include, at the option of the recipient, the acquisition of transportation services by a contract, lease, or other arrangement.

While the assistance is intended primarily for private non-profit organizations, public bodies that coordinate services for the elderly and persons with disabilities, or any public body that certifies to the State that there are no non-profit organizations in the area that are readily available to carry out the service, may receive these funds. Program guidance for the Elderly and Persons with Disabilities Program is found in FTA Circular C9070.1E, The Elderly and Persons with Disabilities Program Guidance and Application Instructions, dated October 1, 1998.

3. Period of Availability

Funds allocated to States under the Elderly and Persons with Disabilities Program in this notice must be obligated by September 30, 2005. Any funding that remains unobligated as of that date will revert to FTA for reapportionment among the States under the Elderly and Persons with Disabilities Program. FTA extended the period of availability for FY 2004 funds through March 31, 2005, because full year funding was not available for obligation until late in the fiscal year. If TEA-21 has not been extended through the end of FY 2005 when the current extension through May 31, 2005 expires, FTA will consider extending the availability of FY 2005 Section 5310 funds.

4. Other Program or Apportionment Related Information and Highlights

These funds may be transferred by the Governor to supplement Urbanized Area Formula or Nonurbanized Area Formula capital funds during the last 90 days of the fiscal year.

H. Nonurbanized Area Formula Program (49 U.S.C. 5311)

This program provides formula funding to States for the purpose of supporting public transportation in areas of less than 50,000 population. Funding may be used for capital, operating, State administration, and project administration expenses. Each State prepares an annual program of projects, which must provide for fair and equitable distribution of funds within the States, including Indian reservations, and must provide for maximum feasible coordination with transportation services assisted by other Federal sources. For more information about the Nonurbanized Area Formula Program contact Lorna Wilson, Office of Resource Management and State Programs, at (202) 366-2053.

1. Total Apportionments

The 2005 Appropriations Act provides $250,889,588 to the Nonurbanized Area Formula Program (49 U.S.C. 5311) after across-the-board 0.80 percent rescission. The total amount apportioned for the Nonurbanized Area Formula Program is $249,635,140, after the deduction for oversight, as shown in the table below.

Nonurbanized Area Formula Program
Appropriation | 252,912,891
Rescission | (2,023,303)
Oversight Deduction | (1,254,448)
Total Apportioned | 249,635,140

The FY 2005 Nonurbanized Area Formula apportionments to the States are displayed in Table 14. Also displayed in Table 14 is the amount of each State's apportionment that is currently available for obligation, in accordance with the Surface Transportation Extension Act of 2004, Part V.

2. Program Requirements

The Nonurbanized Area Formula Program provides capital, operating and administrative assistance for areas under 50,000 in population. Funds are apportioned in proportion to each State's nonurbanized population. Each State must spend no less than 15 percent of its FY 2005 Nonurbanized Area Formula apportionment for the development and support of intercity bus transportation, unless the Governor certifies to the Secretary that the intercity bus service needs of the State are being adequately met. Program guidance for the Nonurbanized Area Formula Program is found in C9040.1E, Nonurbanized Area Formula Program Guidance and Grant Application Instructions, dated October 1, 1998.

3. Period of Availability

Funds apportioned to nonurbanized areas under the Nonurbanized Area Formula Program will remain available for two fiscal years following FY 2005. Any funds that remain unobligated at the close of business on September 30, 2007, will revert to FTA for allocation among the States under the Nonurbanized Area Formula Program.

4. Other Program or Apportionment Related Information and Highlights

Given the ongoing changes in the intercity bus industry, FTA encourages States to consult with intercity bus operators and communities affected by loss of service when evaluating the intercity bus needs of the State.

The dollar unit value shown for the Nonurbanized Area Formula Program in Table 5 of this notice may be multiplied by the States nonurbanized population to replicate FTA's calculation of each State's apportionment.

I. Rural Transit Assistance Program (49 U.S.C. 5311(b)(2))

This program provides funding to assist in the design and implementation of training and technical assistance projects, research, and other support services tailored to meet the needs of transit operators in nonurbanized areas. For more information about Rural Transit Assistance Program (RTAP) contact Lorna Wilson, Office of Resource Management and State Programs, at (202) 366-2053.

1. Total Apportionments

The 2005 Appropriations Act provides $5,208,000 to RTAP (49 U.S.C. 5311(b)(2)) after the across-the-board 0.80 percent rescission, which is the total amount apportioned for RTAP, as shown in the table below.

Appropriation | 5,250,000
Rescission | (42,000)
Total Apportioned | 5,208,000

The FY 2005 RTAP allocations to the States are displayed in Table 14. Also displayed in Table 14 is the amount of each State's allocation that is currently available for obligation, in accordance with the Surface Transportation Extension Act of 2004, Part V. Funds are allocated to the States by an administrative formula consisting of a $65,000 floor for each State ($10,000 for territories), with the balance allocated based on nonurbanized population in the 2000 Census.

2. Program Requirements

The funds are allocated to the States to undertake research, training, technical assistance, and other support services to meet the needs of transit operators in nonurbanized areas. These funds are to be used in conjunction with a State's administration of the Nonurbanized Area Formula Program.

3. Period of Availability

Funds apportioned to nonurbanized areas under RTAP will remain available for two fiscal years following FY 2005. Any funds that remain unobligated at the close of business on September 30, 2007, will revert to FTA for allocation among the States under the RTAP.

4. Other Program or Apportionment Related Information and Highlights

FTA also supports RTAP activities at the national level with the National Planning and Research Program (NPRP). The National RTAP activities support the States in their provision of training and technical assistance. Congress did not designate any NPRP funds for the National RTAP in the Conference Report accompanying the Consolidated Appropriations Act, 2005. FTA will, however, consider the National RTAP among projects to be funded from the limited available NPRP funds.

J. Statewide Planning and Research Program (49 U.S.C. 5313(b))

This program provides financial assistance to States for Statewide planning and other technical assistance activities (including supplementing the technical assistance program provided through the Metropolitan Planning Formula Program), planning support for nonurbanized areas, research, development and demonstration projects, fellowships for training in the public transportation field, university research, and human resource development. For more about the Statewide Planning and Research Program contact Candace Noonan, Program Manager, at (202) 366-1626.

1. Total Apportionments

The 2005 Appropriations Act provides $12,513,485 to the Statewide Planning and Research Program (49 U.S.C. 5313(b)) after the across-the-board 0.80 percent rescission. The total amount apportioned for the Statewide Planning and Research Program (SPRP) is $12,659,599, as shown in the table below.

Statewide Planning and Research Program
Appropriation | 12,614,400
Rescission | (100,915)
Prior Year Funds Added | 146,114
Total Apportioned | 12,659,599

State apportionments for this program are displayed in Table 2. Also displayed in Table 2 is the amount of each State's apportionment that is currently available for obligation, in accordance with the Surface Transportation Extension Act of 2004, Part V. Funds are allocated by a formula that is based on information received from the latest decennial census, and the State's UZA population as compared to the UZA population of all States. However, a State must receive at least 0.5 percent of the amount apportioned under this program.

2. Program Requirements

Statewide Planning and Research funds are apportioned to States by statutory formula to provide funds for Statewide Planning and Research Programs. These funds may be used for a variety of purposes such as planning, technical studies and assistance, demonstrations, management training, and cooperative research. In addition, a State may authorize a portion of these funds to be used to supplement metropolitan planning funds allocated by the State to its UZAs, as the State deems appropriate. Program guidance for the Statewide Planning and Research Program is found in FTA Circular C8200.1, Program Guidance and Application Instructions for State Planning and Research Program Grants, dated December 27, 2001.

3. Period of Availability

The funds apportioned in this notice under the Statewide Planning and Research Program will remain available to be obligated by FTA to recipients for three fiscal years following FY 2005. Any of these apportioned funds that remain unobligated at the close of business on September 30, 2008, will revert to FTA for reapportionment under the program.

4. Other Program or Apportionment Related Information and Highlights

Section VI of this document provides various guidance and information specific to FTA planning programs, including the Statewide Planning and Research Program. Refer to that section for additional information relevant to this program.

K. National Planning and Research Program (49 U.S.C. 5314)

Through funding under this program, FTA seeks to deliver solutions that improve public transportation. FTA's Strategic Research Goals are to increase transit ridership, improve capital and operating efficiencies, improve safety and emergency preparedness, and to protect the environment and promote energy independence. For more about the National Planning and Research Program contact Bruce Robinson, Office of Research, Demonstration and Innovation, at (202) 366-4209.

1. Total Apportionments

The 2005 Appropriations Act provides $37,200,000 for the National Planning and Research Program after the across-the-board 0.80 percent rescission. Of this amount $20,892,622 is allocated for specific activities, after applicable reductions for the Small Business Innovation Research program.

National Planning and Research Program
Appropriation | 37,500,000
Rescission | (300,000)
Total Apportioned | 37,200,000

All research and research and development projects are subject to a 2.6% reduction for the Small Business Innovative Research Program. This determination is made by FTA based on the proposed statement of work. The project allocations are listed in Table 15, along with the amount that is currently available for obligation, in accordance with the Surface Transportation Extension Act of 2004, Part V.

2. Program Requirements

Application Instructions and Program Management Guidelines are set forth in FTA Circular 6100.1C. Research projects must support FTA's Strategic Research Goals and meet the Office of Management and Budget's Research and Development Investment Criteria. All research recipients are required to work with FTA to develop approved Statements of Work and plans to evaluate research results before award.

3. Period of Availability

Funds are available until expended.

4. Other Program or Apportionment Related Information and Highlights

Funds not designated by Congress for specific projects and activities will be programmed by FTA based on national priorities.

L. Job Access and Reverse Commute Program

The Job Access and Reverse Commute (JARC) Program provides funding for transportation services designed to increase access to jobs and employment-related activities. Job Access projects are those that transport welfare recipients and low-income individuals, including economically disadvantaged persons with disabilities, in urban, suburban, or rural areas to and from jobs and activities related to their employment. Reverse Commute projects provide transportation services for the general public from urban, suburban, and rural areas to suburban employment opportunities. A total of up to $10,000,000 from the appropriation may be used for Reverse Commute Projects. For more information about the JARC program contact Gregory D. Brown, Office of Resource Management and States Program, at (202) 366-2053.

1. Total Apportionments

The 2005 Appropriations Act provides $124,000,000 for the Job Access and Reverse Commute (JARC) Program after the across-the-board 0.80 percent rescission. The total amount allocated to JARC projects is $123,702,400, as shown in the table below.

Job Access and Reverse Commute
Appropriation | $125,000,000
Rescission | (1,000,000)
Tech. Asst. Takedown | (297,600)
Total Allocation | 123,702,400

JARC project allocations designated in the Conference Report are included in this notice as Table 16. The amounts designated in the report have been adjusted to reflect the rescission, and the $297,600 set-aside for technical assistance and evaluation of the program.

2. Program Requirements

Although TEA-21 requires that JARC project selections be made through a national competition based on statutorily specified criteria, the 2005 Appropriations Act overrides the requirement for competitive selection by directing FTA to award grants for the JARC designations included in the Conference report language upon receipt of an application. The Federal share for JARC projects, both capital and operating assistance, is 50 percent of net project cost. Planning is not an eligible activity.

Unless statutorily directed otherwise, FTA will honor the discretionary project designations included in Conference Report language for JARC, to the extent that the projects meet the statutory intent of the program. Section 125 of the 2005 Appropriations Act, made the JARC funds designated to projects in FY 2005 available upon FTA's receipt of an application. Section 547 in the Consolidated Appropriations Act, 2004, provided likewise for JARC projects designated in FY 2004. Requests for reprogramming of funding must be directed to the House and Senate Committees on Appropriations for resolution.

3. Period of Availability

Funds for JARC projects competitively selected by FTA remain available for two fiscal years following the fiscal year of selection. No projects competitively selected in previous fiscal years remain available for obligation in FY 2005. Congressional allocations of JARC projects remain available to the designated entity unless reallocated by Congress. Congress did not reallocate unobligated Congressional allocations for JARC projects from fiscal years 2002 in the 2005 Appropriations Act, so they remain available for obligation. Projects designated prior to FY 2002 were reallocated in prior years.

4. Other Program or Apportionment Related Information and Highlights

Prior year unobligated balances for JARC allocations in the amount of $119,748,937 remain available for obligation in FY 2005. These balances include Congressional allocations from fiscal years 2002, 2003 and 2004. These unobligated amounts are displayed in Table 17.

M. Over-the-Road Bus Accessibility Program

The Over-the-Road Bus Accessibility (OTRB) Program authorizes FTA to make grants to operators of over-the-road buses to help finance the incremental capital and training costs of complying with the DOT over-the-road bus accessibility final rule, 49 CFR Part 37, published on September 28, 1998 (63 FR 51670). FTA conducts a national solicitation of applications, and grantees are selected on a competitive basis. For more information about the OTRB program contact Blenda Younger, Office of Resource Management and States Program, at (202) 366-2053.

1. Total Allocation

The 2005 Appropriations Act provides $6,894,400 for the Over-the-Road Bus Accessibility (OTRB) Program after the across-the-board 0.80 percent rescission, which is the total amount allocable for OTRB, as shown in the table below.

Over-the-Road Bus Accessibility Program
Appropriation | $6,950,000
Rescission | (55,600)
Total Allocation | 6,894,400

Of this amount, $5,239,744 is allocable to providers of intercity fixed-route service, and $1,654,666 to other providers of over-the-road bus services, including local fixed-route service, commuter service, and charter and tour service. The total amount of $4,656,832 is currently available for obligation in accordance with the Surface Transportation Extension Act of 2004, Part V. This includes $3,539,192 for intercity fixed-route service and $1,117,640 for other over-the-road bus services.

2. Program Requirements

Projects are competitively selected. The Federal share of the project is 90 percent of net project cost. Program guidance is provided in the Federal Register notice soliciting applications. The FY 2004 notice was published November 24, 2003, and is available at http://www.fta.dot.gov/legal/federal_register/2004/12174_12199_ENG_HTML.htm. Assistance is available to operators of buses used substantially or exclusively in intercity, fixed route, over-the-road bus service. Capital projects eligible for funding include projects to add lifts and other accessibility components to new vehicle purchases and to purchase lifts to retrofit existing vehicles. Eligible training costs include developing training materials or providing training for local providers of over-the-road bus services.

3. Period of Availability

Funds are available until expended.

4. Other Program or Apportionment Related Information and Highlights

A Federal Register notice providing program guidance and application procedures for FY 2005 will be published at a later date and synopsized at www.grants.gov. A Federal Register notice of FY 2004 project selections was published November 16, 2004, and is available at http://www.fta.dot.gov/legal/federal_register/2004/12174_16182_ENG_HTML.htm.

V. FTA Program Guidance and Requirements

A. Automatic Pre-Award Authority to Incur Project Costs

This information incorporates and elaborates on guidance previously provided in the FTA Fiscal Years 2002—2004 Apportionments and Allocations Notices, which can be found on the FTA Web site at http://www.fta.dot.gov/25_ENG_HTML.htm.

1. Policy

FTA provides blanket, or automatic, pre-award authority to certain program areas described below. This pre-award authority allows grantees to incur project costs prior to grant approval and retain their eligibility for subsequent reimbursement after grant approval. The grantee assumes all risk and is responsible for ensuring that all conditions are met to retain eligibility. This automatic pre-award spending authority permits a grantee to incur costs on an eligible transit capital or planning project without prejudice to possible future Federal participation in the cost of the project or projects. Prior to exercising pre-award authority, grantees must comply with the conditions and Federal requirements outlined in paragraphs 2 and 3 below. Failure to do so will render an otherwise eligible project ineligible for FTA financial assistance. In addition, prior to incurring costs, grantees are strongly encouraged to consult with the appropriate FTA regional office regarding the eligibility of the project for future FTA funds and the applicability of the conditions and Federal requirements.

In the June 24, 1998 Federal Register Notice on TEA-21, pre-award authority was extended to all formula funds and flexible funds that would be apportioned during the authorization period of TEA-21, 1998-2003. In the February 11, 2004 Federal Register Notice of FY 2004 Apportionments and Allocations, FTA extended pre-award authority to grantees for project costs to be reimbursed by formula funds and flexible funds to be appropriated in FY 2005. In this notice, FTA is extending this pre-award authority for formula funds and flexible funds that will be appropriated in FY 2006. Pre-award authority for operating and planning projects under the formula grant programs is not limited to the authorization period. In addition, automatic pre-award authority for section 5303 and 5313(b) has been granted through FY 2006. Pre-award authority also applies to section 5309 Capital Investment Bus and Bus-Related allocations and JARC allocations identified in this and previous notices. For such section 5309 Capital Investment Bus and Bus-Related and JARC projects, the date that costs may be incurred is the date that the appropriation bill in which they are contained was enacted. In the February 11, 2004 notice FTA extended pre-award authority to Section 330 projects, and, in this notice, FTA is also extending comparable pre-award authority to those surface transportation projects commonly referred to as Section 115 projects administered by FTA, for which amounts were provided in the Consolidated Appropriations Act, 2004 and Section 117 projects in the 2005 Appropriations Act. We strongly encourage any prospective applicant that does not have a relationship with FTA to review Federal grant requirements with the FTA regional office before incurring costs.

Blanket pre-award authority does not apply to section 5309 Capital Investment New Starts funds. Specific instances of pre-award authority for Capital Investment New Starts projects are described in paragraph 4 below. Pre-award authority does not apply to Capital Investment Bus and Bus-Related projects not specified in this or previous notices. Before an applicant may incur costs for Capital Investment New Starts projects, Bus and Bus-Related projects, or any other projects not listed in this notice or previous notices, it must first obtain a written Letter of No Prejudice (LONP) from FTA. To obtain an LONP, a grantee must submit a written request accompanied by adequate information and justification to the appropriate FTA regional office, as described V.B below.

In using pre-award authority for FY 2006 formula funds, grantees are cautioned that reauthorization may result in changes in program structure, administrative requirements, or funding availability. As with all pre-award authority, activities must be conducted in compliance with Federal requirements in order to retain eligibility for future reimbursement. New grantees are encouraged to contact the appropriate FTA regional office before incurring costs, in order to ensure that requirements are met so that expenses remain eligible.

2. Conditions

The conditions under which pre-award authority may be utilized are specified below:

a. Pre-award authority is not a legal or implied commitment that the project(s) will be approved for FTA assistance or that FTA will obligate Federal funds. Furthermore, it is not a legal or implied commitment that all items undertaken by the applicant will be eligible for inclusion in the project(s).

b. All FTA statutory, procedural, and contractual requirements must be met.

c. No action will be taken by the grantee that prejudices the legal and administrative findings that the Federal Transit Administrator must make in order to approve a project.

d. Local funds expended by the grantee pursuant to and after the date of the pre-award authority will be eligible for credit toward local match or reimbursement if FTA later makes a grant for the project(s) or project amendment(s).

e. The Federal amount of any future FTA assistance awarded to the grantee for the project will be determined on the basis of the overall scope of activities and the prevailing statutory provisions with respect to the Federal/local match ratio at the time the funds are obligated.

f. For funds to which the pre-award authority applies, the authority expires with the lapsing of the fiscal year funds.

g. When a grant for the project is subsequently awarded, the Financial Status Report, in TEAM-Web, must indicate the use of pre-award authority.

3. Environmental, Planning, and Other Federal Requirements

All Federal grant requirements must be met at the appropriate time for the project to remain eligible for Federal funding. For example, the requirement that a project be included in a locally adopted metropolitan transportation improvement program and Federally-approved statewide transportation improvement program (23 CFR part 450) must be satisfied before the grantee may advance the project beyond planning and preliminary design with non-Federal funds under pre-award authority. For planning projects, the project must be included in a locally-approved Planning Work Program that has been coordinated with the State. Compliance with the National Environmental Policy Act (NEPA) and other environmental laws and executive orders (e.g., protection of parklands, wetlands, and historic properties) must be completed before State or local funds are spent on implementation activities, such as finalizing the design, site preparation, construction, and acquisition, for a project that is expected to be subsequently funded with FTA funds. The grantee may not advance the project beyond planning and preliminary design before FTA has determined the project to be a categorical exclusion, or has issued a finding of no significant impact (FONSI) or an environmental record of decision (ROD), in accordance with FTA environmental regulations, 23 CFR Part 771. The conformity requirements of the Clean Air Act, 40 CFR Part 93, if applicable, must also be fully met before the project may be advanced into implementation under pre-award authority with non-Federal funds.

In addition, Federal procurement procedures, as well as the whole range of applicable Federal requirements (e.g., Buy America, Davis-Bacon Act), must be followed for projects in which Federal funding will be sought in the future. Failure to follow any such requirements could make the project ineligible for Federal funding. In short, this increased administrative flexibility requires a grantee to make certain that no Federal requirements are circumvented through the use of pre-award authority. If a grantee has questions or concerns regarding the environmental requirements, or any other Federal requirements that must be met before incurring costs, it should contact the appropriate regional office.

4. Pre-Award Authority for New Starts Projects

a. Preliminary Engineering and Final Design

Projects proposed for section 5309 New Starts funds are required to follow a Federally defined New Starts project development process. This New Starts process includes, among other things, FTA approval of the entry of the project into Preliminary Engineering (PE) and into Final Design (FD). In accordance with section 5309(e), FTA considers the merits of the project, the strength of its financial plan, and its readiness to enter the next phase in deciding whether or not to approve entry into PE or FD. Upon FTA approval to enter PE, FTA extends pre-award authority to incur costs for PE activities. Upon FTA approval to enter FD, FTA extends pre-award authority to incur costs for FD activities. The pre-award authority for each phase is automatic upon FTA's signing of a letter to the project sponsor approving entry into that phase. PE and FD are defined in the New Starts regulation entitled Major Capital Investment Projects, found at 49 CFR Part 611.

b. Real Property Acquisition Activities

FTA extends automatic pre-award authority for the acquisition of real property and real property rights for a New Starts project upon completion of the NEPA process for that project. The NEPA process is completed when FTA signs an environmental Record of Decision (ROD) or Finding of No Significant Impact (FONSI), or makes a Categorical Exclusion (CE) determination. With the limitations and caveats described below, real estate acquisition for a New Starts project may commence, at the project sponsor's risk, upon completion of the NEPA process.

For FTA-assisted projects, any acquisition of real property or real property rights must be conducted in accordance with the requirements of the Uniform Relocation Assistance and Real Property Acquisition Policies Act (URA) and its implementing regulations, 49 CFR part 24. This pre-award authority is strictly limited to costs incurred: (i) to acquire real property and real property rights in accordance with the URA regulation, and (ii) to provide relocation assistance in accordance with the URA regulation. This pre-award authority is limited to the acquisition of real property and real property rights that are explicitly identified in the final environmental impact statement (FEIS), environmental assessment (EA), or CE document, as needed for the selected alternative that is the subject of the FTA-signed ROD or FONSI, or CE determination. This pre-award authority does not cover site preparation, demolition, or any other activity that is not strictly necessary to comply with the URA, with one exception. That exception is when a building that has been acquired, has been emptied of its occupants, and awaits demolition poses a potential fire-safety hazard or other hazard to the community in which it is located, or is susceptible to reoccupation by vagrants, demolition of the building is also covered by this pre-award authority upon FTA's written agreement that the adverse condition exists.

FTA's rationale for providing this pre-award authority was described in the FY 2003 Apportionments and Allocations Notice published in the Federal Register on March 12, 2003, (68 FR 1106 et seq.). The FY 2003 Notice may be found on the FTA Web site at http://www.fta.dot.gov/library/legal/federalregister/2003/fr31203.pdf. Project sponsors should use pre-award authority for real property acquisition and relocation assistance very carefully, with a clear understanding that it does not constitute a funding commitment by FTA.

c. National Environmental Policy Act (NEPA) Activities

NEPA requires that major projects proposed for FTA funding assistance be subjected to a public and interagency review of the need for the project, its environmental and community impacts, and alternatives to avoid and reduce adverse impacts. Projects of more limited scope also need a level of environmental review, either to support an FTA finding of no significant impact (FONSI) or to demonstrate that the action is categorically excluded from the more rigorous level of NEPA review.

FTA's regulation entitled Environmental Impact and Related Procedures at 23 CFR part 771 states that the costs incurred by a grant applicant for the preparation of environmental documents requested by FTA are eligible for FTA financial assistance (23 CFR 771.105(e)). Accordingly, FTA extends automatic pre-award authority for costs incurred to comply with NEPA regulations and to conduct NEPA-related activities for a proposed New Starts project, effective as of the date of the Federal approval of the relevant STIP or STIP amendment that includes the project or any phase of the project. NEPA-related activities include, but are not limited to, public involvement activities, historic preservation reviews, section 4(f) evaluations, wetlands evaluations, endangered species consultations, and biological assessments. This pre-award authority is strictly limited to costs incurred to conduct the NEPA process, and to prepare environmental, historic preservation and related documents. It does not cover preliminary engineering activities beyond those necessary for NEPA compliance. As with any pre-award authority, FTA reimbursement for costs incurred is not guaranteed.

d. Other New Starts Activities Requiring Letter of No Prejudice (LONP)

Except as discussed in paragraphs (a) through (c) above, a grant applicant must obtain a written LONP from FTA before incurring costs for any activity expected to be funded by New Start funds not yet granted. To obtain an LONP, an applicant must submit a written request accompanied by adequate information and justification to the appropriate FTA regional office, as described in section V.B below.

B. Letter of No Prejudice (LONP) Policy

1. Policy

LONP authority allows an applicant to incur costs on a project utilizing non-Federal resources, with the understanding that the costs incurred subsequent to the issuance of the LONP may be reimbursable as eligible expenses or eligible for credit toward the local match should FTA approve the project at a later date. LONPs are applicable to projects and project activities not covered by automatic pre-award authority. The majority of LONPs will be for section 5309 New Starts funds not covered under a full funding grant agreement, or for section 5309 Bus and Bus-Related funds not yet appropriated by Congress. At the end of an authorization period, LONPs may be issued for formula funds beyond the life of the current authorization or FTA's extension of automatic pre-award authority.

2. Conditions and Federal Requirements

The conditions for pre-award authority specified in V.A.2 above apply to all LONPs. The Environmental, Planning and Other Federal Requirements described in V.A.3, also apply to all LONPs. Because project implementation activities may not be initiated prior to NEPA completion, FTA will normally not issue an LONP for such activities until the NEPA process has been completed with a ROD, FONSI, or Categorical Exclusion determination.

3. Request for LONP

Before incurring costs for a project not covered by automatic pre-award authority, the project sponsor must first submit a written request for an LONP, accompanied by adequate information and justification, to the appropriate regional office and obtain written approval. As a prerequisite to FTA approval of an LONP for a New Starts project, FTA will require project sponsors to demonstrate project worthiness and readiness. Projects will be assessed based upon the criteria considered in the New Start evaluation process. Specifically, upon the request for an LONP, the applicant shall provide sufficient information to allow FTA to consider the following items:

a. Description of the activities to be covered by the LONP.

b. Justification for advancing the identified activities.

c. Data that indicates that the project will maintain its ability to receive a “Recommended” rating.

d. Allocated level of risk and contingency for the activity requested.

e. Status of procurement progress, including, if appropriate, submittal of bids for the activities covered by the LONP.

f. Strength of the capital and operating financial plan for the New Starts project and the future transit system.

g. Adequacy of the Project Management Plan.

h. Resolution of any readiness issues that would affect the project, such as land acquisition and technical capacity to carry out the project.

C. FTA FY 2005 Annual List of Certifications and Assurances

On October 26, 2004, the Federal Fiscal Year 2005 Annual List of Certifications and Assurances was published in the Federal Register. The 2005 Annual List contains the following changes to the previous year's Federal Register publication:

(1) In the preface to the certifications and assurances, a paragraph has been added to explain that not all certifications and assurances will apply to all Applicants; and that the certifications and assurances are pre-award requirements and do not encompass all Federal requirements that may apply to the Applicant and its project.

(2) Certification 13(A)(1)(j) is amended to state that in the case of an Applicant serving in a UZA with a population of 200,000 or more, only capital security projects may be financed with the one percent of the UZA formula funds set aside by 49 U.S.C. 5307(d)(1)(J) for security projects.

(3) The Affirmation of the Applicant has been edited to clarify that the criminal fraud provisions of 18 U.S.C. 1001 apply to all certifications, assurances, agreements, and other submissions to FTA.

The 2005 Annual List is accessible on the Internet at www.fta.dot.gov. Any questions regarding this document may be addressed to the appropriate Regional Office or to Pat Simpich, in the FTA Office of Program Management, at (202) 366-1662.

D. FHWA Funds Used for Transit Purposes

The Intermodal Surface Transportation Efficiency Act of 1991 (ISTEA) and TEA-21 have expanded modal choice in transportation funding by including substantial flexibility to transfer funds between FTA and FHWA program funding categories.

1. Transfer Process

The process for transferring flexible formula funds between FTA and FHWA programs is described below. For information on the transfer of funds between FTA and FHWA planning programs, contact the FTA/FHWA staff identified in VI.D below.

Transfer from FHWA to FTA. FHWA funds designated for use in transit capital projects must be derived from the metropolitan and statewide planning and programming process, and must be included in an approved STIP before the funds can be transferred. By letter, the State DOT requests the FHWA Division Office to transfer highway funds for a transit project. The letter should specify the project, amount to be transferred, apportionment year, State, Federal aid apportionment category (i.e., Surface Transportation Program (STP), Congestion Mitigation and Air Quality (CMAQ), Interstate Substitute, or congressional earmark), and should include a description of the project as contained in the STIP.

The FHWA Division Office confirms that the apportionment amount is available for transfer and concurs in the transfer, by letter to the State DOT and FTA. The FHWA Office of Budget and Finance then transfers obligation authority and an equal amount of cash to FTA. All FHWA CMAQ, STP, and Congressionally earmarked funds for transit projects in the Appropriations Act or Conference Report will be transferred to one of the three FTA formula programs (i.e. Urbanized Area Formula (section 5307), Nonurbanized Area Formula (section 5311) or Elderly and Persons with Disabilities (section 5310).

The FTA grantee's application for the project must specify which program the funds will be used for, and the application must be prepared in accordance with the requirements and procedures governing that program. Upon review and approval of the grantee's application, FTA obligates funds for the project.

Transferred funds are treated as FTA formula funds, but are assigned a distinct identifying code for tracking purposes. The funds may be used for any capital purpose eligible under the FTA formula program to which they are transferred and, in the case of CMAQ, for certain operating costs. FTA and FHWA have issued guidance on project eligibility under the CMAQ program in a Notice at 65 FR 9040 et seq. (February 23, 2000). In accordance with 23 U.S.C. 104(k), all FTA requirements except local share are applicable to transferred funds; FHWA local share requirements apply to funds transferred from FHWA to FTA. Transferred funds should be combined with regular FTA funds in a single annual grant application.

In the event that transferred funds are not obligated for the intended purpose within the period of availability of the program to which they were transferred, they become available to the Governor for any eligible capital transit project.

Transfers from FTA to FHWA. The Metropolitan Planning Organization (MPO) submits a written request to the FTA Regional Office for a transfer of FTA section 5307 formula funds (apportioned to a UZA 200,000 and over in population) to FHWA based on approved use of the funds for highway purposes, as contained in the Governor's approved State Transportation Improvement Program. The MPO must certify that: (1) The funds are not needed for capital investments required by the Americans with Disabilities Act; (2) notice and opportunity for comment and appeal has been provided to affected transit providers; and (3) local funds used for non-Federal match are eligible to provide assistance for either highway or transit projects. The FTA Regional Administrator reviews and concurs in the request, then forwards the approval to FTA Headquarters, where a reduction equal to the dollar amount being transferred to FHWA is made to the grantee's Urbanized Area Formula Program apportionment.

For information regarding these procedures, please contact Kristen D. Clarke, FTA Budget Office, at (202) 366-1686; or James V. Lunetta, FHWA Finance Division, at (202) 366-2845.

2. Matching Share for FHWA Transfers

The provisions of Title 23 U.S.C. regarding the non-Federal share apply to Title 23 funds used for transit projects. Thus, FHWA funds transferred to FTA retain the same matching share that the funds would have if used for highway purposes and administered by FHWA.

There are three instances in which a Federal share higher than 80 percent would be permitted. First, in States with large areas of Indian and certain public domain lands and national forests, parks and monuments, the local share for highway projects is determined by a sliding scale rate, calculated based on the percentage of public lands within that State. This sliding scale, which permits a greater Federal share, but not to exceed 95 percent, is applicable to transfers used to fund transit projects in these public land States. FHWA develops the sliding scale matching ratios for the increased Federal share.

Second, commuter carpooling and vanpooling projects and transit safety projects using FHWA transfers administered by FTA may retain the same 100 percent Federal share that would be allowed for ride-sharing or safety projects administered by FHWA.

The third instance is the 100 percent Federally-funded safety projects; however, these are subject to a nationwide 10 percent program limitation.

3. Miscellaneous Transit Earmarks in FHWA Programs

The FY 2002 and FY 2003 Appropriations Acts and accompanying reports included Section 330, which identified a number of transit projects among projects designated to receive funding from certain Federal Highway Administration (FHWA) funding sources. In FY 2004, Section 115 similarly included transit projects among projects designated to receive funding from certain FHWA sources. Some of these FY 2002-2004 designations for transit projects have not yet been obligated. The 2005 Appropriations Act also includes a new set of designations under Section 117, which may include some projects that FHWA will identify to be administered by FTA. For those projects identified by FHWA as transit in nature, FHWA allots the funds to FTA to administer. The funds are available for the designated project until obligated and expended. However, because these are FHWA funds, FTA cannot carry over unobligated balances remaining at the end of the fiscal year. Instead FHWA re-allots carryover to FTA annually, after reconciling account balances. Because the requirements and procedures associated with these projects differ in some cases from those for the FTA programs that FTA grantees are familiar with, and the availability of funds for obligation by FTA depends on allotments from FHWA, transit applicants seeking funding under these miscellaneous FHWA designations must work closely with the appropriate FTA regional office and FHWA Division Office when applying for a grant under these designations.

E. Grant Application Procedures

Grantees must provide a Dun and Bradstreet (D&B) Data Universal Numbering System (DUNS) number for inclusion in all applications for a Federal grant or cooperative agreement submitted on or after October 1, 2003. The Office of Management and Budget (OMB) published this requirement in the Federal Register on June 27, 2003 at 68 FR 38402 et seq. On August 4, 2003, FTA issued a Dear Colleague letter including instructions on how to obtain a DUNS number; the letter can be accessed at http://www.fta.dot.gov/legal/guidance/dear_colleague/2003/178_12145_ENG_HTML.htm. The DUNS number should be entered into the grantee profile in TEAM-Web. Additional information about this and other Federal grant streamlining initiatives mandated by the Federal Financial Assistance Management Improvement Act of 1999 (Pub. L. 106-107) can be accessed on OMB's Web site at http://www.whitehouse.gov/omb/grants/reform.html.

All applications for FTA funds should be submitted to the appropriate FTA regional office. FTA utilizes TEAM-Web, an Internet-accessible electronic grant application system, and all applications are filed electronically. FTA has provided exceptions to the requirement for electronic filing of applications for certain new, non-traditional grantees in the JARC and OTRB programs, as well as to a few grantees that have not successfully connected to or accessed TEAM-Web.

In FY 2005, FTA is committed to maintaining the average number of days required to process a completed grant application at 36 days or fewer, while continuing to process at least 80 percent of grants within 60 days of receipt of a completed application by the appropriate Regional Office. In FY 2004, FTA achieved this goal, with an average processing time of 30 days and 91 percent of grants obligated within 60 days of submission of a completed application.

In order for an application to be considered complete and for FTA to assign a grant number, enabling submission in TEAM-Web, the requirements listed in III.A of this document must be met. During FY 2005, any grantee applying for funds available under an extension of TEA-21 before the full year's apportionment becomes available is encouraged to include contingency items for the remainder of the funds, so that the entire project can be certified by DOL at the time of the initial application. The FTA circulars contain more information regarding application contents. State applicants for section 5311 funds are reminded that they must certify to DOL that all subrecipients have agreed to the standard labor protection warranty for section 5311, and must provide DOL with specified related information for each grant.

Before FTA can award grants for discretionary projects and activities designated by Congress, notification must be given to members of Congress, and in the case of awards greater than $1 million, to the House and Senate appropriations committees.

F. Payments

Once a grant has been awarded and executed, funds can be drawn down. On October 6, 2004, FTA implemented its new web-based payment system called “ECHO-Web”. ECHO-Web is an Internet accessible system that provides grantees the capability to submit payment requests on-line, as well as receive user-IDs and passwords via e-mail. Each grantee may have three people with a user profile (before, there was only one ECHO ID). The new system has been improved with encryption and software applications that meet current computer security standards and regulations.

FTA's former payment system that required FTA grantees enter draw-down requests through an outdated modem connection, has been retired. Grantees that have not submitted the registration package necessary for set-up under ECHO Web should contact the appropriate FTA regional office.

G. Oversight

FTA conducts periodic oversight reviews to assess grantee compliance with Federal requirements. Each UZA grantee is reviewed every three years (a triennial review). States are reviewed periodically for their management of the section 5310 and 5311 programs. Other more detailed reviews are scheduled based on an annual grantee risk assessment.

H. Technical Assistance

FTA headquarters and regional staff will be pleased to answer your questions and provide any technical assistance you may need to apply for FTA program funds and manage the grants you receive. This notice and the program guidance circulars previously identified in this document may be accessed via the FTA Web site at www.fta.dot.gov.

In addition, copies of the following circulars and other useful information are available on the FTA Web site and may be obtained from FTA regional offices: 4220.1E, Third Party Contracting Requirements, dated June 19, 2003; and C5010.1C, Grant Management Guidelines, dated October 1, 1998. The FY 2005 Annual List of Certifications and Assurances is also posted on the FTA Web site. Other documents on the FTA Web site of particular interest to public transit providers and others include the annual Statistical Summaries of FTA Grant Assistance Programs and the National Transit Database Profiles. The DOT final rule on “Participation by Disadvantaged Business Enterprises in Department of Transportation Financial Assistance Programs,” which was effective July 16, 2003, can be found on the Department's Web site at http://osdbu.dot.gov/business/DBE/49cfrpart26_final_rule.html.

VI. Guidance and Information Specific to FTA Planning Programs

A. Census 2000 Planning and Programming Requirements Deadline

The 2000 Census made changes, among other things, to the number and location of UZAs. These UZA designations are used by FTA to apportion funds. Each UZA must have an MPO in place to program Federal funding for highway and transit projects. MPOs must submit updates to their planning area boundaries, based on the 2000 Census.

FY 2005 is a critical year to complete a number of planning and programming items that resulted from the designation of new and revised UZAs by the 2000 Census. Subsequent designation by the U.S. DOT of new TMAs also requires completion of other items. These items, which must be completed in order to receive Federal funding, include the following:

1. New TMAs (27) were identified by the U.S. DOT on July 8, 2002. Federal Certification of these new TMAs must be completed by July 8, 2005. Congestion Management Systems are required for these TMAs.

2. Seventy-six new UZAs were identified by the 2000 Census. Per FTA and FHWA guidance, these new UZAs must have an existing or new MPO in place with an adopted plan, TIP, and planning boundary maps no later than October 1, 2005 in order to continue to receive Federal funds.

3. Some new UZAs will require air quality conformity findings. Failure to have a plan and TIP with a conformity finding will result in a conformity lapse.

4. Existing MPOs must update their planning area boundaries (area expected to be urbanized in the next 20 years) based on the 2000 Census. Previously published guidance requires MPOs to update and send the new boundaries to the FTA regional office and the FHWA Division Office no later than the next scheduled plan update after October 1, 2002, or by October 1, 2005, whichever occurs first.

B. Local Match Waiver for Specified Planning Activities

Job Access and Reverse Commute Planning. Federal, State and local welfare reform initiatives may require the development of new and innovative public and other transportation services to ensure that former welfare recipients have adequate mobility for reaching employment opportunities. In recognition of the key role that transportation plays in ensuring the success of welfare-to-work initiatives, FTA and FHWA permit the waiver of the local match requirement for JARC planning activities undertaken with both FTA and FHWA Metropolitan Planning Program and State Planning and Research Program funds. FTA and FHWA will support requests for waivers if they are included in Metropolitan Unified Planning Work Programs and State Planning and Research Programs and meet all other requirements.

C. Planning Emphasis Areas for FY 2005

The FTA and FHWA identify Planning Emphasis Areas (PEAs) annually to promote priority themes for consideration in Statewide and metropolitan (Unified) planning work programs proposed for FTA and FHWA funding. The FY 2005 PEAs are proposed for consideration in the development of unified planning work programs (UPWPs) and State Planning and Research (SP&R) programs during FY 2005, even though the UPWP might not be approved until early in FY 2006.

FTA and FHWA provide technical assistance and informational support for the PEAs through the Transportation Planning Capacity Building Program (TPCB), which can be accessed at http://www.planning.dot.gov/. The TPCB is available to respond to requests and provide opportunities for peer exchange of innovative practices in these emphasis areas throughout the year. Requests for information and technical support through the TPCB can be made by accessing the Web site noted above. In addition, training courses that address these PEAs in a variety of planning contexts are available through the National Transit Institute (NTI) and the National Highway Institute (NHI). Information on course offerings is available at the TPCB Web site noted above and at the NTI and NHI Web sites: www.ntionline.com/ and www.nhi.fhwa.dot.gov/default.asp.

For FY 2005, six key planning themes have been identified: (1) Consideration of safety and security in the transportation planning process; (2) linkage of the planning and NEPA processes; (3) consideration of management and operations within planning processes; (4) State DOT consultation with non-metropolitan local officials; (5) enhancement of the technical capacity of planning processes; and 6) coordination of human service transportation.

1. Consideration of Safety and Security in the Transportation Planning Process. TEA-21 included safety and security as factors to consider in the development of plans and programs, in recognition of the importance of safety and security of transportation systems as a national priority. TEA-21 calls for transportation projects and strategies that “increase the safety and security of transportation systems.” This entails communication and collaboration among safety professionals, the enforcement community, and transportation planners in order to successfully integrate safety and security into all stages of the transportation planning process.

Information is available at http://www.tfhrc.gov/pubrds/pubrds.htm describing the tools and strategies associated with the implementation of safety conscious planning within Statewide and metropolitan transportation planning processes, including resources targeted to States and MPOs. A training course titled “Safety Conscious Planning” is available through NTI (see Web site above) with additional information available from TPCB Web site and FHWA and FTA, as follows: www.fhwa.dot.gov/planning/scp/index.htm and http://transit-safety.volpe.dot.gov/.

2. Linking the Planning and NEPA Processes. FHWA and FTA are developing guidance on the appropriate use of planning results during a NEPA review. This guidance will be derived from a study of NEPA case law that synthesizes what the Federal courts have said about the role of MPO and statewide planning in FHWA's and FTA's NEPA decision-making. The guidance will be posted on the Web site for the Transportation Planning Capacity Building Program at http://www.planning.dot.gov as soon as it is available.

A series of facilitated workshops entitled “Linking Planning and NEPA” were delivered in FY 2004, with another series to be delivered in FY 2005. These workshops are described at the NTI and NHI Web sites noted above.

3. Consideration of Management and Operations within Planning Processes. TEA-21 challenged FHWA and FTA to move beyond traditional capital programs for improving the movement of people and goods—focusing on the need to improve the way transportation systems are managed and operated. Discussion papers on the topic are available at www.plan4operations.dot.gov. In addition, an NHI training course on the topic is scheduled to be available in the second quarter of FY 2005. Also, “Getting More by Working Together-Opportunities for Linking Planning and Operations”, a reference guide for use by State DOT's, MPO's, and Transit Operators on opportunities for linking planning and operations, will be released in FY 2005.

4. State DOT Consultation With Non-Metropolitan Local Officials. On January 23, 2003, FTA and FHWA issued a Final Rule on consultation, followed by a technical correction on February 14, 2003, which can be accessed at http://www.fta.dot.gov/library/legal/federalregister/2003/fr12303.html and http://www.fta.dot.gov/library/legal/federalregister/2003/fr21403.html. This final rule amended the 1993 Joint FTA/FHWA Planning regulation published in the Federal Register, Volume 58, No. 207, on October 28, 1993. By February 24, 2004, each State was required to have a documented process(es) that implements consultation with non-metropolitan local officials in the Statewide transportation planning process and development of the Statewide Transportation Improvement Program (STIP), to be separate and discrete from the State's public involvement process. By February 24, 2006 and every five years thereafter, States must review and solicit comments (for a minimum of 60 days) from non-metropolitan local officials and other interested parties on the effectiveness of the existing consultation process(es) and proposed modifications. As part of this requirement, a “specific request for comments shall be directed to the State association of counties, State municipal league, regional planning agencies, or directly to non-metropolitan local officials.” In the meantime, FHWA and FTA will be using the Statewide planning findings that accompany approvals of the STIP as the primary mechanism for tracking and monitoring State progress in implementing and later reviewing and refining these processes.

5. Enhancing the Technical Capacity of Planning Processes. Reliable information on current and projected usage and performance of transportation systems is critical to the ability of planning processes to supply credible information to decision-makers to support preparation of plans and programs that respond to each locality's unique needs and policy issues. If this expertise is found to be lacking, the responsible agencies within metropolitan and Statewide planning processes are encouraged to devote appropriate resources to enhance and maintain their technical capacity. Training courses on this topic are available through NTI and NIH, with additional information available through the TPCB Web site and the Travel Model Improvement Program, which can be accessed at http://tmip.fhwa.dot.gov/.

6. Coordination of Human Service Transportation. The importance of coordinating human service transportation and the supporting United We Ride initiative were described earlier in this publication (see III.B—Transportation Coordination—United We Ride). This initiative supports Federal, State, and local agencies working together to ensure that transportation services are seamless, comprehensive and accessible to all citizens.

For further information on these PEAs, contact Candace Noonan, FTA Office of Planning and Environment, (202) 366-1648, or John Humeston, FHWA Office of Planning, (404) 562-3667.

D. Consolidated Planning Grants

Since FY 1997, FTA and FHWA have offered States the option of participating in a pilot Consolidated Planning Grant (CPG) program. This streamlined fund drawdown process eliminates the need to monitor individual fund sources, if several have been used, and ensures that the oldest funds will always be used first.

Under the CPG, States can report metropolitan planning expenditures (to comply with the Single Audit Act) for both FTA and FHWA under the Catalogue of Federal Domestic Assistance number for FTA's Metropolitan Planning Program. Additionally, for States with an FHWA Metropolitan Planning (PL) fund-matching ratio greater than 80 percent, the State (through FTA) can request a waiver of the 20 percent local share requirement in order that all FTA funds used for metropolitan planning in a CPG can be granted at the higher FHWA rate. For some States, this Federal match rate can exceed 90 percent. In FY 2005, the CPG program was expanded to allow the transfer of FTA planning funds to FHWA in addition to the current process whereby FHWA funds for planning are transferred to FTA. For planning projects funded through a CPG, the State DOT requests the transfer of funds in a letter to the FHWA Division Office (if transferring funds to FTA) or to the FTA regional office (if transferring funds to FHWA).

States interested in transferring planning funds between FTA and FHWA should contact the FTA regional office or FHWA Division Office for more detailed procedures.

For further information on participating in the CPG Pilot, contact Candace Noonan, Planning Oversight Division, FTA, at (202) 366-1648, or Anthony Solury, Office of Planning and Environment, FHWA, at (202) 366-5003. Information concerning participation in the CPG program can be found on the FTA Web site at http://www.fta.dot.gov/224_6039_ENG_HTML.htm.

Jennifer L. Dorn,
Administrator.

BILLING CODE 4910-57-P

[FR Doc. 04-28408 Filed 12-28-04; 8:45 am]

BILLING CODE 4910-57-C